DEPARTMENT OF INTERIOR

Bureau of Land Management

[21X.LLNMP02000.L14400000.ET0000; NMNM-142840]

Notice of Application for Withdrawal and a Public Meeting for Guadalupe Cave Resource Protection Area, New Mexico

AGENCY: Bureau of Land Management, Interior.

ACTION: Notice of application for withdrawal.

SUMMARY: The Bureau of Land Management (BLM) has received an application from the United States Forest Service (USFS) for the Secretary of the Interior to withdraw 28,513.30 acres of National Forest System lands from location and entry under the United States mining laws, and from leasing under the mineral leasing laws, subject to valid existing rights, for a period of 20 years to protect the Guadalupe Cave Resource Protection Area located on the Guadalupe Ranger District of the Lincoln National Forest in New Mexico. Publication of this notice segregates the lands for two years from location and entry under the United States mining laws, and from leasing under the mineral leasing laws, subject to valid existing rights, and announces an opportunity for the public to comment on the withdrawal application. This notice also announces the date, time, and location of the public meeting. The lands will remain open to all other uses according to the laws applicable to National Forest System lands.

DATES: Comments and meeting requests must be received on or before April 25, 2022.

ADDRESSES: All comments should be sent to the BLM New Mexico State Office, 301 Dinosaur Trail, Santa Fe, New Mexico 87508, or email to snaranjo@blm.gov. The BLM will not consider comments received via telephone calls. The application and case file are available for public examination by interested persons by appointment at the BLM Public Room, 620 E Greene Street, Carlsbad, NM 88220 during regular business hours 8:00 a.m. to 4:30 p.m., Monday through Friday except holidays. Please call Robert Gomez, Realty Supervisor, at (575) 234-5989 to review the application and case file at the BLM Public Room.

FOR FURTHER INFORMATION CONTACT: Sarah Naranjo, Realty Specialist, BLM New Mexico State Office, by email at snaranjo@blm.gov or by telephone at (505) 954-2200. Persons who use a telecommunications device for the deaf (TDD) may call the Federal Relay Service (FRS) at 1-800-877-8339 to contact Ms. Naranjo. The FRS available 24 hours a day, 7 days a week, to leave a message or question with the above individual. You will receive a reply during normal business hours.

SUPPLEMENTARY INFORMATION: The purpose of the withdrawal is to protect and preserve the Guadalupe Cave Resource Protection Area in the Lincoln National Forest in Eddy County, New Mexico, for a 20-year period. This area is part of the Capitan Limestone, reef, and shelf complex, of Permian age, and has a high likelihood of undiscovered caves; therefore, no suitable alternative site is available. The USFS filed an application on December 18, 2020, with the Secretary of the Interior, to withdraw the following described National Forest System lands:

New Mexico Principal Meridian

T. 25 S., R. 21 E.,

sec. 36, lot 4, S½SW¼, and SW¼SE¼,

T. 26 S., R. 21 E.

sec. 1;

sec. 2, E½;

sec. 10, SE¼SE¼;

sec. 11, E½ and SW¼;

secs. 12, 13, and 14;

sec. 15, E½, S½NW¼, and SW¼;

sec. 16, S½SE¼;

sec. 20, SE¼;

secs. 21 thru 28;

sec. 29, E½;

sec. 32, lots 1 and 2, and N½NE¼;

sec. 33, lots 1 thru 4, and N½N½;

sec. 34, lots 1 thru 4, and N½N½;

sec. 35, lots 1 thru 4, and N½N½;

sec. 36, lots 1 thru 4, and N½N½;

T. 25 S., R.22 E.,

(The land described in T. 25 S., R. 22 E. is unsurveyed, and descriptions were established by a 2002 Protraction Diagram)

PB 43;

sec. 14, S½;

sec. 15, S½ and NW¼;

PBs 44, 49, 50, 51, and 52;

secs. 22 and 23;

secs. 26 thru 29;

PBs 55 thru 63;

T. 26 S., R. 22 E.,

secs. 3 thru 10, and 15 thru 18.

The area described contains 28,513.30 acres in Eddy County, New Mexico.

All persons who wish to submit comments, suggestions, or objections, in connection with the requested withdrawal to the Lincoln National Forest, can do so until April 25, 2022 to the individual mentioned in the ADDRESSES section.

Before including your address, phone number, email address, or other personal identifying information in your comment, you should be aware that your entire comment—including your personal identifying information—may be made publicly available at any time. While you can ask in your comment to withhold your personal identifying information from public review, we cannot guarantee that we will be able to do so.

Notice is hereby given that a virtual (online) public meeting in connection with the application for withdrawal and segregation will be held. The USFS and the BLM will have a public meeting on February 23, 2022, at 5:30 p.m. (Mountain Time). A link to join the Teams virtual meeting will be available at https://www.fs.usda.gov/lincoln.

Submit your written comments to the State Director, BLM New Mexico State Office, at the address in the ADDRESSES section indicated above by April 25, 2022.

For a period until January 24, 2024, subject to valid existing rights, the lands in this Notice will be segregated from location and entry under the United States mining laws and leasing under the mineral leasing laws, unless the application is denied or canceled, or the withdrawal is approved prior to that date.

(Authority: 43 CFR 2310.3-1)

Melanie G. Barnes,
Acting State Director.

[FR Doc. 2022-01216 Filed 1-21-22; 8:45 am]

BILLING CODE 4310-FB-P